FEDERAL COMMUNICATIONS COMMISSION

47 CFR Part 73

[MB Docket No. 24-152; RM-11982; DA 24-870; FR ID 242482]

Television Broadcasting Services Boise, Idaho

AGENCY: Federal Communications Commission.

ACTION: Final rule.

SUMMARY: On June 24, 2024, the Video Division, Media Bureau (Bureau), issued a notice of proposed rulemaking in response to a Petition for Rulemaking filed by King Broadcasting Company (Petitioner or King Broadcasting), the licensee of KTVB, channel 7, Boise, Idaho (Station or KTVB). The Petitioner requested the substitution of channel 23 for channel 7 at Boise, Idaho (Boise), in the Table of TV Allotments. TEGNA, Inc., on behalf of its wholly owned subsidiary, King Broadcasting, filed comments in support of the Petition, as required by the Commission's rules (rules), reaffirming King Broadcasting's commitment to apply for channel 23. The Bureau concludes that the public interest would be served by substituting channel 23 for channel 7 at Boise.

DATES: Effective September 6, 2024.

FOR FURTHER INFORMATION CONTACT: Joyce Bernstein, Media Bureau, at (202) 418-1647 or Joyce.Bernstein@fcc.gov.

SUPPLEMENTARY INFORMATION: The proposed rule was published at 89 FR 52430 on June 24, 2024. The Petitioner filed comments in support of the petition reaffirming its commitment to apply for channel 23. No other comments were filed.

The Bureau concludes that the public interest would be served by substituting channel 23 for channel 7 at Boise. According to the Petitioner, the channel change will resolve persistent reception complaints it has received from viewers, and substantially improve the community's access to the Station's local news, emergency information, and entertainment programming. The Petitioner states that the Commission has recognized that VHF channels have certain characteristics that pose challenges for their use in providing digital television service, including propagation characteristics that allow undesired signals and noise to be receivable at relatively far distances. Additionally, the Petitioner notes that the Commission has observed the large variability in the performance of indoor antennas available to consumers, with most antennas receiving “fairly well at UHF and the substantial majority not so well to very poor at high-VHF.” An engineering statement provided by the Petitioner confirms that the proposed channel 23 contour would provide full principal community coverage to Boise and would not cause impermissible interference to any station. In addition, the proposed channel 23 facility will not result in any loss of service to existing viewers within the Station's noise limited service contour.

As proposed, we find that channel 23 can be substituted for channel 7 at Boise in compliance with the principal community coverage requirements of § 73.618(a) of the rules, at coordinates 43-45′-15.6″ N and 116-05′-59.4″ W. In addition, we find that this channel substitution meets the technical requirements set forth in § 73.622(a) of the rules.

We also conclude that good cause exists to make this channel change effective immediately upon publication in the Federal Register, pursuant to section 553(d)(3) of the Administrative Procedure Act. An expedited effective date is necessary in this case to ensure that KTVB can operate with improved service to its viewers as quickly as possible.

This is a synopsis of the Commission's Report and Order, MB Docket No. 24-152; RM-11982; DA 24-870, adopted August 28, 2024, and released August 28, 2024. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of the Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(j), amend the Table of TV Allotments, under Idaho by revising the entry for Boise to read as follows:

§ 73.622 Digital television table of allotments.

* * * * *

(j) * * *

Community | Channel No.
* * * * *
Idaho
Boise | 15, 20, * 21, 23
* * * * *

* * * * *

[FR Doc. 2024-20120 Filed 9-5-24; 8:45 am]

BILLING CODE 6712-01-P